DEPARTMENT OF LABOR

Employment and Training Administration

[TA-W-60,370; TA-W-60,370A]

Radio Frequency Systems, Inc. Microwave Antenna Division Including OnSite Temporary Workers of UTI Meriden, Connecticut and Cable Assembly Division Including OnSite Temporary Workers of Spherion Atlantic Workforce LLC, Meriden, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 1, 2006, applicable to workers of Radio Frequency Systems, Inc., Microwave Antenna Division and the Cable Assembly Division, Meriden, Connecticut. The notice was published in the Federal Register on December 12, 2006 (71 FR 74564).

At the request of the State agency, the Department reviewed the certification for workers of the subject firm. The workers of the Microwave Antenna Division produce microwave antennas used in cell phone towers. The workers of the Cable Assembly Division produce cables and jumpers to connect to the antennas.

Review of the petition file shows that the Department inadvertently failed to include coverage to the onsite temporary workers at each of the Division's described above. Workers of UTI were employed onsite at the Microwave Antenna Division and workers of Spherion Atlantic Workforce LLC were employed onsite at the Cable Assembly Division.

The intent of the Department's certification is to include all workers at Radio Frequency Systems, Inc., Meriden, Connecticut, who were adversely affected by a shift in production to Mexico. Therefore, the Department is amending this certification to include temporary workers from UTI and Spherion Atlantic Workforce LLC working onsite at the Meriden, Connecticut Microwave Antenna and Cable Assembly Divisions of the subject firm.

The amended notice applicable to TA-W-60,370 is hereby issued as follows:

“All workers of Radio Frequency Systems, Inc., Microwave Antenna Division, including onsite temporary workers of UTI, Meriden, Connecticut (TA-W-60,370) and Radio Frequency Systems, Inc., Cable Assembly Division, including onsite temporary workers of Spherion Atlantic Workforce LLC, Meriden, Connecticut (TA-W-60,370A), who became totally or partially separated from employment on or after November 6, 2005, through December 1, 2008, are eligible to apply for adjustment assistance under Section 223 of the Trade Act of 1974, and are also eligible to apply for alternative trade adjustment assistance under Section 246 of the Trade Act of 1974.”

Signed at Washington, DC, this 7th day of March 2007.
Linda G. Poole,
Certifying Officer, Division of Trade Adjustment Assistance.

[FR Doc. E7-4576 Filed 3-13-07; 8:45 am]

BILLING CODE 4510-FN-P